DEPARTMENT OF HEALTH AND HUMAN SERVICES

National Institutes of Health

Office of the Director, National Institutes of Health; Office of Biotechnology Activity; Recombinant DNA Research; Notice of a Meeting of an NIH Blue Ribbon Panel

There will be a meeting of the NIH Blue Ribbon Panel to advise on the Risk Assessment of the National Emerging Infectious Diseases Laboratories (NEIDL). The meeting will be held on Tuesday, October 14, 2008, at the Roxbury Center for the Arts, Hibernian Hall, 184 Dudley Street, Roxbury, MA 02119 from approximately 6:30 p.m. to 9:30 p.m.

Discussions will focus on principles and strategies for effective community engagement. There will also be time allotted on the agenda for public comment.

Sign up for public comment will begin at approximately 5:30 p.m. on October 14, 2008. In the event that time does not allow for all those interested to present oral comments, anyone may file written comments using the address below.

For further information concerning this meeting contact Ms. Laurie Lewallen, Advisory Committee Coordinator, Office of Biotechnology Activities, Office of the Director, National Institutes of Health, Mail Stop Code 7985, Bethesda, MD 20892-7985, telephone 301-496-9838, e-mail lewallla@od.nih.gov. Background information may be obtained by contacting NIH OBA by e-mail oba@od.nih.gov.

Dated: September 16, 2008.
Kelly R. Fennington,
Special Assistant to the Director, Office of Biotechnology Activities, National Institutes of Health.

[FR Doc. E8-22313 Filed 9-22-08; 8:45 am]

BILLING CODE 4140-01-P